DEPARTMENT OF AGRICULTURE

Forest Service

Lincoln Ranger District, Helena National Forest, Lewis & Clark County, Montana Copper Creek Road Improvements

AGENCY: Forest Service, USDA.

ACTION: Notice of intent to prepare environmental impact statement.

SUMMARY: The USDA, Forest Service will prepare an environmental impact statement (EIS) on a proposal to improve the Copper Creek Road, which includes repaving existing pavement, paving existing gravel, upgrading dirt surface to gravel, and widening a single-lane bridge to a two lane-bridge on an existing two-lane road. This project includes 14.2 miles of Copper Creek Road from the junction at State Highway 200 passing through Forest Service, State, and private land.

The Copper Creek Road provides access to Snowbank Lake, Copper Creek Campground, and the Indian Meadow Trailhead for accessing the Scapegoat Wilderness.

DATES: Comments concerning the proposal and scope of the analysis must be received in writing by January 17, 2003. The draft EIS is expected to be completed in summer of 2003 with the final EIS slated for fall/winter of 2003.

ADDRESSES: Send written comments to Martie Schramm, Acting District Ranger, Helena National Forest, Lincoln Ranger District, 7269 Highway 200, Lincoln, MT 59644. Phone: (406) 362-3425. Martie Schramm is also the responsible official for this project.

FOR FURTHER INFORMATION, CONTACT: Charlie McKenna, Forest Engineer, Helena National Forest, 2880 Skyway Drive, Helena, MT 59601. Phone (406) 449-5201.

SUPPLEMENTARY INFORMATION:

Purpose and Need for Action

The Lincoln Ranger District of the Helena National Forest has identified the need for reduced sedimentation produced from erosion of the Copper Creek Road and for improved traffic safety for recreation and management uses to the areas accessed by this road system.

Concerns for fish occupying this drainage include sediment running off the aggregate surface of the road and adjacent road cuts as-well-as several locations of the drainage that are cutting towards the roadbed, and fish passage barriers existing at two locations cutting off potential fish habitat.

In addition, Copper Creek Road in its current configuration has several traffic hazards including a one-lane bridge that constricts traffic flow and has approaches with poor visibility, roadbed alignment with several narrow curves where driver vision is limited, and the aggregate-surface segment of the road frequently develops washboards and large potholes creating unsafe conditions for drivers.

Proposed Action

The Lincoln Ranger District, Helena National Forest, proposes to make improvements to 14.2 mi of Copper Creek Road, located in the Lincoln Ranger District, in Lewis and Clark County, Montana. The project would include re-paving the existing 2.6 mi of paved road, paving an additional 5.9 mi of the existing aggregate-surface (gravel) road, improving the 5.7 mi of single-lane native-surface road above Copper Creek Campground, replacing a one-lane bridge with a two-lane bridge, replacing culverts to reestablish fish passage and to withstand 100-year flood events, and realigning some segments away from Copper Creek. These realignments may require construction of retaining walls for some road cuts and where space is limited, engineered structures may be installed between the active stream channel and the road fill to minimize further encroachment.

The segment from the junction with State Highway 200 to Copper Creek Campground would meet the minimum standards necessary to support the intended uses and improve user safety, while protecting affected resources. The Lincoln Ranger District proposes to reconstruct the road to an American Association of State Highway and Transportation Officials design standard corresponding to “Rural Recreational and Scenic Roads.” This design standard includes an overall width (including shoulders) of 20 ft (6 m). The proposed design speed would be low (0 to 45 mph).

The project includes mitigation measures to reduce impacts to riparian areas, wildlife habitat and other resources. These measures would include but not limited to:

a. Revegetating all disturbed areas with approved native vegetation.

b. Controlling sediment movement by use of temporary structures such as fabric fences and straw bales during construction.

c. Reducing impacts to streams by minimizing activities within the active stream channel, and temporarily diverting the stream when activities within the active stream channel can not be avoided.

d. Avoiding or minimizing removal of desirable woody debris and disturbance to existing vegetation adjacent to streams to maintain filter strips

e. Timing all construction activities to minimize disturbance to wildlife.

f. Halting construction and stabilizing the activity area prior to winter to minimize sediment yield at peak flows during spring thaw, as required by the Forest Plan.

Preliminary Issues

Copper Creek provides critical spawning habitat for upper Blackfoot River fluvial bull trout, a species listed as threatened under the Endangered Species Act. Bull trout spawning occurs both upstream and downstream of Snowbank Lake. Westslope cutthroat trout (a sensitive species) are also found in Copper Creek.

Possible Alternatives

Alternatives being considered at this time are this proposal and the no action (proceed with current maintenance).

Scoping Process

The Forest Service is seeking information and comments from Federal, State and local agencies as well as individuals and organizations that may be interested in, or affected by, the proposed action. Preparation of the Draft Environmental Impact Statement will use information from responses received from this NOI, a public meeting this December in Lincoln, MT, and through a mailing informing the public of this proposal. The Forest Service invites written comments and suggestions related to and within the scope of this proposal.

Permits or Licenses Required

In order to proceed, this proposal may require the following permits from the State of Montana:

• Application for Short-Term Water Quality Standard for Turbidity Related to Construction Activity (318 Authorization).

• Stream Protection Act 124 Permit.

• Clean Water Act Section 401 Water Quality Certification.

Comment Requested

The comment period on the draft environmental impact statement will be a minimum of 45-days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points (http://www.epa.gov/epahome/cfr40.htm).

Comments received, including the names and addresses of those who comment, will be considered part of the public record on this proposal and will be available for public inspection.

(Authority: 40 CFR 1501.7 and 1508.22; Forest Service Handbook 1909.15, section 21).

Implementation

The Lincoln Ranger District anticipates beginning construction on the project in late summer 2004, stopping construction during the winter months, and resuming construction the following year. The project is expected to take 12 months to complete, including winter shutdown.

No change to travel restrictions associated with this road or other roads and trails accessed by this road would occur, as part of this action.

Nature of Decision To Be Made

The decision framework refers to the scope of the decision that will be issued at the conclusion of this analysis by the responsible official. The decision will be based on information disclosed in the environmental document, contained in the Project Analysis File, and comments submitted during the scoping of the proposed action and the comment period.

The Responsible Official may decide whether or not to:

• Select the Proposed Action,

• Select an alternative to the Proposed Action, or

• Select portions from the developed range of alternatives and combine them in a logical package.

In selecting one of the above options, the terms and conditions of the selection will be fully displayed and understood. Within the parameters of this decision space, it will also be determined if a Helena Land and Resource Management Plan amendment would be necessary. The decision maker will take into consideration relationships of alternatives to the identified significant issues.

Dated: December 9, 2002.
Dwight Chambers,
Acting Forest Supervisor.

[FR Doc. 02-31414 Filed 12-12-02; 8:45 am]

BILLING CODE 3410-11-P